DEPARTMENT OF ENERGY

Federal Energy Regulatory Commission

18 CFR Part 375

[Docket No. RM25-13-000; Order No. 913]

Delegation of Authority Regarding Electric Reliability Organization's Delegation Agreement and Rules or Rule Changes Filings

AGENCY: Federal Energy Regulatory Commission.

ACTION: Final rule.

SUMMARY: The Commission is issuing this final rule to transfer certain delegated authority from the Director of the Commission's Office of Energy Market Regulation to the Director of the Commission's Office of Electric Reliability, with respect to uncontested Electric Reliability Organization (ERO) or Regional Entity filings pertaining to ERO delegation agreements and ERO or Regional Entity rules or rule changes.

DATES: This final rule is effective September 30, 2025.

FOR FURTHER INFORMATION CONTACT: Hampden T. Macbeth, Office of General Counsel, Federal Energy Regulatory Commission, 888 First Street NE, Washington, DC 20426. (202) 502-8957. Hampden.Macbeth@ferc.gov.

SUPPLEMENTARY INFORMATION:

I. Background

1. The Energy Policy Act of 2005 added section 215 to the Federal Power Act (FPA), which requires a Commission-certified Electric Reliability Organization (ERO) to develop mandatory and enforceable Reliability Standards for the Bulk-Power System, subject to Commission review and approval.¹ Under this section, the Commission must issue regulations authorizing the ERO to enter into an agreement to delegate authority to a Regional Entity if the Regional Entity meets certain conditions.² Further, any ERO or Regional Entity proposed rules or rule changes must be submitted to the Commission for approval.³

¹ 16 U.S.C. 824o.

² Id. 840o(e)(4).

³ Id. 840o(f).

2. In Order No. 672, the Commission, inter alia, adopted regulations in accordance with FPA sections 215(e)(4) and 215(f): 18 CFR 39.8, Delegation to a Regional Entity; and 18 CFR 39.10, Changes to an Electric Reliability Organization Rule or Regional Entity Rule.⁴

⁴ Rules Concerning Certification of the Elec. Reliability Org.; & Procs. for the Establishment, Approval, & Enf't of Elec. Reliability Standards, Order No. 672, 71 FR 8662 (Feb. 17,2006), 114 FERC ¶ 61,104, order on reh'g, Order No. 672-A, 71 FR 19814 (Apr. 18, 2006), 114 FERC ¶ 61,328 (2006).

3. Section 39.8 of the Commission's regulations requires the ERO to submit to the Commission for Commission approval any proposal to delegate the ERO's authority to a Regional Entity for the purpose of proposing and enforcing Reliability Standards.⁵

⁵ 18 CFR 39.8(a)-(b).

4. Section 39.10 of the Commission's regulations requires the ERO to file with the Commission for Commission approval any proposed organization rule or rule change, including any Regional Entity rule or rule change.⁶

⁶ Id. 39.10(a), (c).

II. Discussion

5. In light of the Office of Electric Reliability's (OER) frequent interactions with the ERO and OER's applicable expertise, certain authorities related to ERO filings made pursuant to sections 39.8 and 39.10 of the Commission's regulations that are currently delegated to the Director of the Office of Energy Market Regulation (OEMR) are being transferred to the Director of OER.⁷ Specifically, this instant final rule removes section 375.307(a)(2)(vi), which delegates authority to act upon uncontested proposed ERO or Regional Entity rules or rule changes pursuant to section 39.10. The instant final rule also removes section 375.307(a)(2)(vii), which delegates authority to act upon uncontested delegation agreement filings by the ERO or a Regional Entity pursuant to section 39.8. Because the Director of OER currently has delegated authority to “approve uncontested applications” ⁸ submitted pursuant to section 215 of the FPA, there is no corresponding need to revise the delegated authority of the Director of OER.

⁷ The instant final rule does not change the Director of OEMR's delegated authority set forth in 18 CFR 375.307(a)(2)(v) to take appropriate action on uncontested ERO budget, business plan, and special assessment filings made pursuant to 18 CFR 39.4.

⁸ 18 CFR 375.303(a)(2)(i).

III. Information Collection Statement

6. Office of Management and Budget (OMB) regulations require OMB to approve certain information collection requirements imposed by agency rule.⁹ This final rule, however, results in no new, additional, or different public reporting burden. This final rule does not require public utilities or natural gas companies to file new, additional, or different information, and it does not change the frequency with which they must file information.

⁹ 5 CFR 1320.13.

IV. Environmental Analysis

7. The Commission is required to prepare an Environmental Assessment or an Environmental Impact Statement for any action that may have a significant adverse effect on the human environment.¹⁰ Excluded from this requirement are rules that are procedural, ministerial, or internal administrative and management actions, programs or decisions.¹¹ This rule falls within this exception; consequently, no environmental consideration is necessary.

¹⁰ Regulations Implementing the National Environmental Policy Act of 1969, Order No. 486, 52 FR 47897 (Dec. 17, 1987), FERC Stats. & Regs. ¶ 30,783 (1987) (cross-referenced at 41 FERC ¶ 61,284).

¹¹ 18 CFR 380.4(a)(1).

V. Regulatory Flexibility Act

8. The Regulatory Flexibility Act of 1980 (RFA) ¹² generally requires a description and analysis of final rules that will have significant economic impact on a substantial number of small entities. This final rule changes the Commission's delegations of authority to take certain actions and does not create any additional requirements for filers. The Commission thus certifies that it will not have a significant economic impact upon participants in Commission proceedings. An analysis under the RFA is therefore not required.

¹² 5 U.S.C. 601-612.

VI. Regulatory Planning and Review

9. Executive Order 12866 (Regulatory Planning and Review), as amended by Executive Orders 14215 (Ensuring Accountability for All Agencies) and 13563 (Improving Regulation and Regulatory Review), directs agencies to assess the costs and benefits of available regulatory alternatives and, if regulation is necessary, to select regulatory approaches that maximize net benefits (including potential economic, environmental, public health and safety effects, distributive impacts, and equity). Executive Order 13563 emphasizes the importance of quantifying costs and benefits, reducing costs, harmonizing rules, and promoting flexibility. This final rule regards “agency organization, management, or personnel matters” and is not subject to regulatory planning and review pursuant to section 3(d)(3) of Executive Order 12866.

VII. Executive Order 13132 (Federalism)

10. Executive Order 13132 (Federalism) imposes certain requirements on Federal agencies formulating and implementing policies or regulations that preempt State law or that have federalism implications. The Executive Order requires agencies to examine the constitutional and statutory authority supporting any action that would limit the policymaking discretion of the States and to carefully assess the necessity for such actions. The Commission has determined that this final rule would not have a substantial direct effect on the States, on the relationship between the national government and the States, or on the distribution of power and responsibilities among the various levels of government. Therefore, the Commission has not prepared a federalism assessment.

VIII. Document Availability

11. In addition to publishing the full text of this document in the Federal Register, the Commission provides all interested persons an opportunity to view and/or print the contents of this document via the internet through the Commission's Home Page (http://www.ferc.gov) and in the Commission's Public Reference Room during normal business hours (8:30 a.m. to 5:00 p.m. Eastern time) at 888 First Street NE, Room 2A, Washington, DC 20426.

12. From the Commission's Home Page on the internet, this information is available on eLibrary. The full text of this document is available on eLibrary in PDF and Microsoft Word format for viewing, printing, and/or downloading. To access this document in eLibrary, type the docket number excluding the last three digits of this document (i.e., the sub docket number, 000) in the docket number field.

13. User assistance is available for eLibrary and the Commission's website during normal business hours from FERC Online Support at (202) 502-6652 (toll free at (866) 208-3676) or email at ferconlinesupport@ferc.gov, or the Public Reference Room at (202) 502-8371, TTY (202) 502-8659. Email the Public Reference Room at public.referenceroom@ferc.gov.

IX. Effective Date and Congressional Notification

14. The Commission is issuing this rule as an instant final rule without a period for public comment. These regulations are effective on September 30, 2025. The Commission finds that notice and public comments are unnecessary because this final rule concerns only internal agency procedure and practice. Therefore, the Commission finds good cause to waive the notice period otherwise required before the effective date of this final rule.

List of Subjects in 18 CFR Part 375

Authority delegations (Government agencies), Seals and insignia, Sunshine Act.

By direction of the Commission.
Issued: September 25, 2025.
Carlos D. Clay,
Deputy Secretary.

In consideration of the foregoing, the Commission amends part 375, chapter I, title 18, Code of Federal Regulations, as follows:

PART 375—THE COMMISSION

1. The authority citation for part 375 continues to read as follows:

Authority: 5 U.S.C. 551-557; 15 U.S.C. 717-717w, 3301-3432; 16 U.S.C. 791-825r, 2601-2645; 42 U.S.C. 7101-7352.

§ 375.307 [Amended]

2. In § 375.307, remove paragraphs (a)(2)(vi) and (vii).

[FR Doc. 2025-18977 Filed 9-29-25; 8:45 am]

BILLING CODE 6717-01-P